FEDERAL COMMUNICATIONS COMMISSION

Notice of Public Information Collection(s) being Reviewed by the Federal Communications Commission

December 20, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 5, 2003. If you anticipate that you will be submitting comments, but find it difficult to do so within the period of time allowed by this notice, you should advise the contact listed below as soon as possible.

ADDRESSES: Direct all comments to Judith Boley Herman, Federal Communications Commission, Room 1-C804, 445 12th Street, SW., Washington, DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0690.

Title: Rules Regarding the 37.0-38.6 GHz and 38.6-40.0 GHz Bands.

Form Nos.: FCC Forms 415 and 415-T.

Type of Review: Extension of a currently approved collection.

Respondents: Business or other for-profit.

Number of Respondents: 5,000.

Estimated Time Per Response: .50-20 hours.

Frequency of Response: On occasion reporting requirement, third party disclosure requirement.

Total Annual Burden: 75,625 hours.

Total Annual Cost: $5,000,000.

Needs and Uses: The collection of information is necessary because of the Commission's Rules regarding the 37.0-38.6 GHz and 38.6-40.0 GHz bands. The rules implement the use of a channeling plan, and licensing and technical rules to fixed point-to-point microwave operation in the 37 and 39 GHz bands. This requirement will facilitate provision of communications infrastructure for commercial and private mobile radio operations and competitive wireless local telephone service. Without this information, the Commission would not be able to carry out its statutory responsibilities.

OMB Control No.: 3060-0692.

Title: Redesignation of the 18 GHz Frequency Band, Blanket Licensing of Satellite Earth Stations in the Ka-band, and the Allocation of Additional Spectrum for Broadcast Satellite-Service Use.

Form Nos.: N/A.

Type of Review: Revision of a currently approved collection.

Respondents: Business or other for-profit.

Number of Respondents: 5 respondents; 590 responses.

Estimated Time Per Response: 1-4 hours.

Frequency of Response: On occasion, annual and other reporting requirements, third party disclosure requirement.

Total Annual Burden: 590 hours.

Total Annual Cost: $51,000.

Needs and Uses: The Federal Communications Commission (FCC) adopted rules that redesignated portions of the 17.7-20.2 GHz band (18 GHz band) among the various currently allocated services to make more efficient use of this spectrum and to better accommodate the operational needs of licensees. On 1/31/02, the FCC adopted a Notice of Proposed Rulemaking (NPRM), in IB Docket No. 02-19, that requires licensees to amend their applications, submit milestone certifications and annual reports to the Commission to comply with new rules.

Federal Communications Commission.
Marlene H. Dortch,
Secretary.

[FR Doc. 03-162 Filed 1-3-03; 8:45 am]

BILLING CODE 6712-01-P